ENVIRONMENTAL PROTECTION AGENCY

[FRL-6953-9]

Agency Information Collection Activities Up for Renewal; Comment Request; Underground Storage Tanks: Technical and Financial Requirements, and State Program Approval Procedures

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB) for review and approval: “Underground Storage Tanks, Technical and Financial Requirements, and State Program Approval Procedures,” EPA ICR Number 1360.06; OMB Control Number 2050-0068. This ICR will replace EPA ICR Number 1360.05, which expires on September 30, 2001. Before submitting the ICR to OMB for review and approval, EPA is soliciting comments on specific aspects of the proposed information collection as described below.

DATES: Comments must be submitted on or before May 18, 2001.

ADDRESSES: Commenters should send an original and two copies of their comments referencing docket number UST 9-2 to: OUST Docket, c/o RCRA Docket Information Center, Office of Solid Waste (5305G), U.S. Environmental Protection Agency, 1200 Pennsylvania Ave., NW., Washington, DC 20460. Hand deliveries of comments should be made to OUST Docket c/o RCRA Docket Information Center, Crystal Gateway One, First Floor, 1235 Jefferson Davis Highway, Arlington, VA 22202. Comments may also be submitted electronically by sending electronic mail through the Internet to: rcra-docket@epamail.epa.gov. Comments in electronic form should also be identified by the docket number (UST 9-2). All electronic comments must be submitted as an ASCII file avoiding the use of special characters and any form of encryption.

Copies of the draft ICR, supporting materials, and public comments are available for viewing in the RCRA Information Center (RIC), located at the Arlington, VA address listed above. The RIC is open from 9 a.m. to 4 p.m., Monday through Friday, excluding Federal holidays. To review docket materials, it is recommended that the public make an appointment by calling (703) 603-9230. The public may copy a maximum of 100 pages from any regulatory docket at no charge. Additional copies cost $0.15/page.

The official record for this action will be kept in paper form. Accordingly, EPA will transfer all comments received electronically into paper form and place them in the official record, which will also include all comments submitted directly in writing. The official record is the paper record maintained at the address in ADDRESSES stated above.

EPA responses to comments, whether the comments are written or electronic, will be in a notice in the Federal Register or in a response to comments document placed in the official record for this action. EPA will not immediately reply to commenters electronically other than to seek clarification of electronic comments that may be garbled in transmission or during conversion to paper form, as discussed above.

FOR FURTHER INFORMATION CONTACT: Sammy Ng; Office of Underground Storage Tanks, U.S. Environmental Protection Agency, 1200 Pennsylvania Ave., NW, Washington DC 20460, (703) 603-7166, ng.sammy@epamail.epa.gov.

SUPPLEMENTARY INFORMATION: Affected entities: Entities potentially affected by this action are those facilities that own and operate Underground Storage Tanks (USTs) and those states that implement the UST programs.

Title: “Underground Storage Tanks, Technical and Financial Requirements and State Program Approval Procedures,” EPA ICR Number 1360.06, OMB Control Number 2050-0068. This ICR will replace EPA ICR Number 1360.05, which expires on September 30, 2001. This is a request for extension of a currently approved collection.

Abstract: Subtitle I of the Resource Conservation and Recovery Act (RCRA), as amended, requires that the EPA develop standards for UST systems as may be necessary to protect human health and the environment, and procedures for approving State programs in lieu of the Federal program. EPA promulgated technical and financial requirements for owners and operators of USTs at 40 CFR Part 280, and State program approval procedures at 40 CFR Part 281. This ICR is a comprehensive presentation of all information collection requirements contained at 40 CFR parts 280 and 281.

The data collected for new and existing UST system operations and financial requirements are used by the owners and operators and/or EPA or the implementing agency to monitor results of testing, inspections, and operations of UST systems, as well as to demonstrate compliance with regulations. EPA believes strongly that if the minimum requirements specified under the regulations are not met, neither the facilities nor EPA can ensure that UST systems are being managed in a manner protective of human health and the environment.

EPA uses State program applications to determine whether to approve a State program. Before granting approval, EPA must determine that programs will be no less stringent than the Federal program and contain adequate enforcement mechanisms.

An agency may not conduct or sponsor, and a person is not required to respond to, a collection of information unless it displays a currently valid OMB control number. The OMB control numbers for EPA's regulations are listed in 40 CFR part 9 and 48 CFR Chapter 15.

EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: This ICR is a comprehensive description of the total respondent burden for all information collection activities related to the UST program. EPA has revised its respondent universe and burden estimates based on updated data from the Office of Underground Storage Tanks (OUST), and State and industry sources. Because of these revisions, the total annual hourly burden to respondents has decreased from the current ICR (6.25 million hours per year) by approximately 0.22 million hours annually to 6.03 million hours.

In modifying hourly respondent labor costs and technical and financial burden estimates under this ICR, EPA ensured that all respondent activities were covered by the ICR, including the development and gathering of information, not only information reporting and recordkeeping. EPA also conducted consultations with trade associations and contractors. Based on these consultations, EPA increased the labor burden associated with many activities associated with the use and management of USTs, adjusted the labor rates for facilities and contractors, and added capital and operation and maintenance (O&M) costs to various activities covered in the ICR. EPA believes that the revised burden reflects a more comprehensive and, therefore, more accurate portrait of the existing burden on the regulated community.

For State program approval procedures, this ICR estimates that the annual respondent burden will decrease slightly over the previous ICR. This decrease has resulted, in part, from the smaller number of States that are expected to apply for State Program Approval (SPA). (The current ICR estimated that four States would apply for program approval each year, while this ICR estimates that three States will submit State program materials each year). In addition, EPA revised its burden estimates based on several years of program experience and on input from State program officials. EPA believes that these changes resulted in a more accurate reflection of the burden placed on the State programs by the SPA process.

EPA estimates that the total annual respondent burden for all activities covered by this proposed ICR is 6.03 million hours. The total estimated annual financial burden is approximately $666.19 million ($302.62 million in labor costs, $57.13 million in capital/startup costs, and $306.43 million in O&M costs). The Agency estimates that the average total annual number of respondents will be 261,865 and the frequency of their response will depend upon the individual reporting and recordkeeping requirements.

Based on this analysis, the public reporting burden for UST facilities is estimated to average 12.37 hours per respondent per year. This estimate includes time for preparing and submitting notices, preparing and submitting demonstrations and applications, reporting releases, gathering information, and preparing and submitting reports. The recordkeeping burden for UST facilities is estimated to average 11.90 hours per respondent per year. This estimate includes time for gathering information and for developing and maintaining records.

For States applying for program approval, the reporting burden is estimated to average 255.30 hours per respondent per year. This estimate includes time for preparing and submitting an application and associated information. The recordkeeping burden is estimated to be 47.00 hours per respondent per year. This estimate includes time for maintaining application files.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 9, 2001.
Cliff Rothenstein,
Director, Office of Underground Storage Tanks.

[FR Doc. 01-6705 Filed 3-16-01; 8:45 am]

BILLING CODE 6560-50-P